DEPARTMENT OF THE INTERIOR

Fish and Wildlife Service

50 CFR Part 17

RIN 1018-AT31

Endangered and Threatened Wildlife and Plants; 12-Month Petition Finding and Proposed Rule To Delist the Mexican Bobcat (Lynx rufus escuinapae)

AGENCY: Fish and Wildlife Service, Interior.

ACTION: Proposed rule; notice of reopening of comment period.

SUMMARY: We, the Fish and Wildlife Service (Service), give notice that we are reopening the comment period for the proposed rule to delist the Mexican bobcat (Lynx rufus escuinapae) under the Endangered Species Act of 1973 (Act), as amended. The proposed rule was published and the public comment period initially opened on May 19, 2005 and the comment period closed on August 17, 2005. We are now reopening the comment period so that we may obtain comments from additional peer reviewers and other interested persons. Comments previously submitted do not need to be resubmitted because they will be incorporated into the public record as part of this comment period and will be fully considered in the final determination.

DATES: Comments must be submitted directly to the Service (see ADDRESSES section) on or before December 23, 2005. Any comments received after the closing date may not be considered in the final determination on the proposal.

ADDRESSES: Submit comments, information, and questions to the Chief, Division of Scientific Authority, U.S. Fish and Wildlife Service, 4401 N. Fairfax Drive, Room 750, Arlington, VA 22203, USA; or by fax (703-358-2276); or by e-mail (scientificauthority@fws.gov). Comments and supporting information will be available for public inspection, by appointment, from 8 a.m. to 4 p.m. at the above address. To obtain a copy of the May 19, 2005 proposed rule, you can download or print it from http://www.fws.gov/international/, or you can request a copy from the Division of Scientific Authority by writing to the above address or calling 703-358-1708.

FOR FURTHER INFORMATION CONTACT: Dr. Javier Alvarez at the above address; or by telephone (703-358-1708), fax (703-358-2276), or e-mail (scientificauthority@fws.gov).

SUPPLEMENTARY INFORMATION:

Background

On July 8, 1996, the Service received a petition dated June 30, 1996, from the National Trappers Association, Inc., Bloomington, Illinois. The petition requested that we delist the Mexican bobcat under the Act. On July 2, 2003, we published in the Federal Register (68 FR 39590) a positive 90-day finding on the National Trappers Association petition, thereby initiating a public comment period and status review for the species. Based on the comments received and status review, on May 19, 2005, we published in the Federal Register (70 FR 28895) a rule proposing to delist the Mexican bobcat under the Act. The public comment period on that proposed rule closed on August 17, 2005. In our final rule, we will address the comments received during that 90-day comment period as well as the comments received during the reopening of the comment period initiated by this document.

Public Comments Solicited

The Service intends that any final action resulting from the proposed rule will be based on the most accurate and up-to-date information possible. Therefore, comments or suggestions from the public, other concerned governmental agencies, the scientific community, industry, or any other interested party concerning the proposed rule are hereby solicited. Comments particularly are sought concerning the taxonomic validity and population status of the Mexican bobcat, specifically the putative subspecies Lynx rufus escuinapae and not other subspecies or populations of bobcat in Mexico. We request that you do not resubmit comments sent to us during the previous comment period. Comments previously submitted will be incorporated into the public record as part of this comment period and will be fully considered in the final determination. Final action on the proposed rule will take into consideration the comments and any additional information received by the Service, and such communications may lead to a final action that differs from the proposed rule.

Our practice is to make comments, including names and home addresses of respondents, available for public review during regular business hours. Commenters may request that we withhold their home addresses, and we will honor these requests to the extent allowable by law. In some circumstances, we may also withhold a commenter's identity, as allowable by law. If you wish us to withhold your name or address, you must state this request prominently at the beginning of your comment. However, we will not consider anonymous comments. To the extent consistent with applicable law, we will make all submissions from organizations or businesses, and from individuals identifying themselves as representatives or officials of organizations or businesses, available for public comment in their entirety. Comments and materials received will be available for public inspection, by appointment, during normal business hours at the above address.

Peer Review

In accordance with our policy published on July 1, 1994 (59 FR 34270), we are seeking expert opinions of at least three appropriate independent specialists regarding the proposed rule. The purpose of such review is to ensure that listing decisions are based on scientifically sound data, assumptions, and analysis. Two of the three invited peer reviewers submitted comments during the previous comment period, while the third submitted comments following the close of the comment period. Therefore, we are reopening the comment period to allow consideration of the existing peer reviews as well as the submission of comments by additional peer reviewers.

Author

The primary author of this notice is Dr. Javier Alvarez (see ADDRESSES section).

Authority: The authority for this action is the Endangered Species Act of 1973, as amended (16 U.S.C. 1531 et seq.).

Dated: October 27, 2005.
Marshall Jones,
Deputy Director, Fish and Wildlife Service.

[FR Doc. 05-23032 Filed 11-22-05; 8:45 am]

BILLING CODE 4310-55-M